DEPARTMENT OF THE INTERIOR

National Park Service

[NPS-WASO-NAGPRA-NPS0027962; PPWOCRADN0-PCU00RP14.R50000]

Notice of Inventory Completion: Office of the State Archaeologist, University of Iowa, Iowa City, IA

AGENCY: National Park Service, Interior.

ACTION: Notice.

SUMMARY: The Office of the State Archaeologist Bioarchaeology Program, previously listed as the Office of the State Archaeologist Burials Program, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Office of the State Archaeologist Bioarchaeology Program. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Office of the State Archaeologist Bioarchaeology Program at the address in this notice by July 5, 2019.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains and associated funerary objects under the control of the Office of the State Archaeologist Bioarchaeology Program, Iowa City, IA. The human remains and associated funerary objects were removed from site 13WD216 in Sioux City, Woodbury County, IA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Office of the State Archaeologist Bioarchaeology Program professional staff in consultation with representatives of the Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Lower Sioux Indian Community in the State of Minnesota; Oglala Sioux Tribe (previously listed as the Oglala Sioux Tribe of the Pine Ridge Reservation, South Dakota); Rosebud Sioux Tribe of the Rosebud Indian Reservation, South Dakota; Santee Sioux Nation, Nebraska; Shakopee Mdewakanton Sioux Community of Minnesota; Sisseton-Wahpeton Oyate of the Lake Traverse Reservation, South Dakota; Spirit Lake Tribe, North Dakota; Upper Sioux Community, Minnesota; and the Yankton Sioux Tribe of South Dakota (hereafter referred to as “The Tribes”).

History and Description of the Remains

In September 1958, human remains representing, at minimum, 12 individuals were removed from the Sioux City South Ravine (13WD216) in Woodbury County, IA. The human remains were disturbed by heavy machinery at a sand borrow during the construction of Interstate 29. Staff from Morningside College began work at the site on the day of the discovery, and Reynold Ruppe of the University of Iowa completed the excavation. The site was looted twice during the excavation, resulting in the loss of human remains and artifacts. The remaining artifacts and human remains were dispersed, with some displayed at the Sioux City Public Museum and some reposed at the University of Iowa. In 1965, most of the human remains and artifacts were reunited in Sioux City, Iowa. The human remains were then transferred to William Bass at the University of Kansas for study, while the artifacts were sent to the Smithsonian Institution laboratory in Lincoln, Nebraska. Most of the human remains and some of the artifacts from site 13WD216 were discovered in the repository of the University of Tennessee-Knoxville in early 2018, and were transferred to the Iowa Office of the State Archaeologist Bioarchaeology Program in July 2018. Individuals represented include one middle-aged male, three young adult males, two middle-aged females, three young-middle adult females, one young adult female, one female 17 to 18 years old, and one child 11 to 12 years old (Burial Project 3362). No known individuals were identified. The 101 associated funerary objects are eight beads, 17 buttons, six fabric scraps, 10 fragments of a bone object, three leather belts (partial), four shoe soles/fragments, one lead bullet, two coffin handles (one partial), one coffin lace, one coffin plaque fragment, 26 square cut nails, two screws, 14 fragments of coffin wood, one iron brace, one iron bracket, and four ceramic sherds.

Based on the presence of square cut nails, the site is roughly dated to A.D. 1800-1900. Graves with Prosser buttons post-date 1840, while the burial with the mass-produced coffin handle likely dates between 1860 and 1880. A European-tradition burial position (supine and extended) in wooden coffins and the mix of ancestry apparent from osteological analysis lend support to the identification of this site as the burial ground of a small French and Native American community mentioned in a county history as having emerged in the 1850s. Not all individuals excavated from this cemetery were identified as Native American. Four individuals were identified as Native American through facial morphology and cranial metrics. Two individuals, a young adult male and female, were determined to have African American ancestry, possibly with Native American admixture, based on cranial metrics and dental morphology. Two individuals, a young adult male and the 11- to 12-year-old child, were determined to be Euroamerican based on facial and dental morphology. Ancestry could not be determined osteologically for the four individuals whose crania were not present, however, after discussion with tribal representatives, they are considered to be Native American. The Past and Present of Woodbury County (Constant R. Marks, 1904) does not specify the tribal affiliation of all the individuals living in the area, but one household included a daughter of War Eagle, and the Sioux and Dakota are mentioned.

Determinations Made by the Office of the State Archaeologist Bioarchaeology Program

Officials of the Office of the State Archaeologist Bioarchaeology Program have determined that:

• Pursuant to 25 U.S.C. 3001(9), the human remains described in this notice represent the physical remains of ten individuals of Native American ancestry.

• Pursuant to 25 U.S.C. 3001(3)(A), the 101 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dr. Lara Noldner, Office of the State Archaeologist Bioarchaeology Program, University of Iowa, 700 S Clinton Street, Iowa City, IA 52242, telephone (319) 384-0740, email lara-noldner@uiowa.edu, by July 5, 2019. After that date, if no additional requestors have come forward, transfer of control of the human remains and associated funerary objects to The Tribes may proceed.

The Office of the State Archaeologist Bioarchaeology Program is responsible for notifying The Tribes that this notice has been published.

Dated: May 14, 2019.
Melanie O'Brien,
Manager, National NAGPRA Program.

[FR Doc. 2019-11541 Filed 6-3-19; 8:45 am]

BILLING CODE 4312-52-P